DEPARTMENT OF COMMERCE

National Oceanic and Atmospheric Administration

[RTID 0648-XX049]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an exempted fishing permit application submitted by The Nature Conservancy contains all of the required information and warrants further consideration. This exempted fishing permit would allow participants to use electronic monitoring systems in lieu of at-sea monitors in support of a study to develop electronic monitoring for catch monitoring in the Northeast multispecies fishery. Regulations under the Magnuson-Stevens Fishery Conservation and Management Act require publication of this notification to provide interested parties the opportunity to comment on applications for proposed exempted fishing permits.

DATES: Comments must be received on or before April 23, 2020.

ADDRESSES: You may submit written comments by either of the following methods:

• Email: nmfs.gar.efp@noaa.gov. Include in the subject line “PARTIAL EM EFP RENEWAL.”

• Mail: Michael Pentony, Regional Administrator, NMFS, Greater Atlantic Regional Fisheries Office, 55 Great Republic Drive, Gloucester, MA 01930. Mark the outside of the envelope “PARTIAL EM EFP RENEWAL.”

FOR FURTHER INFORMATION CONTACT: Claire Fitz-Gerald, Fishery Policy Analyst: 978-281-9255; claire.fitz-gerald@noaa.gov.

SUPPLEMENTARY INFORMATION: Northeast multispecies (groundfish) sectors must implement and fund an at-sea monitoring (ASM) program, and the Northeast Multispecies Fishery Management Plan (FMP) regulations allow sectors to use electronic monitoring (EM) to satisfy this monitoring requirement, provided that NMFS deems the technology sufficient for catch monitoring. NMFS recently notified the Council of its intent to allow sectors to submit EM plans instead of, or in addition to, ASM plans as part of the fishing year 2021 and 2022 sector operations plans approval process. For the 2020 fishing year, lessons learned through this exempted fishing permit (EFP) would allow NMFS to continue developing standards and requirements for the groundfish EM program. Project partners include The Nature Conservancy, the Cape Cod Commercial Fishermen's Alliance, the Maine Coast Fishermen's Association, and fishermen.

The Nature Conservancy first obtained an EFP authorizing participant vessels to use EM in lieu of human observers to meet their ASM requirements in fishing year 2016. Project partners applied to renew this EFP in fishing years 2017, 2018, and 2019. The EFP was reissued for all 3 years.

Table 1—Participation in Previous Issues of the Partial Audit-Model EM EFP
Fishing year | Number of participant vessels | ASM coverage level (percent)
2016 | 14 | 14
2017 | 5 | 16
2018 | 5 | 15
2019 | 5 | 31

On February 27, 2020, The Nature Conservancy, along with project partners, submitted a request to renew this EFP for the 2020 fishing year, as part of an ongoing effort to develop EM in the groundfish fishery. The proposed participant list includes five vessels, all of which participated in this EFP in fishing year 2019. Together, they are expected to take an a total of 235 trips in fishing year 2020. Vessels would be assigned observer coverage at the fishing year 2020 ASM coverage level of 40 percent, which is a combination of Northeast Fishery Observer Program (NEFOP) and ASM coverage. At 40-percent observer coverage, this would equate to roughly 94 EFP trips.

On groundfish trips selected for observer coverage, vessels participating in this EFP would use EM in lieu of human ASMs, and in addition to NEFOP observers. Vessels would adhere to a vessel-specific Vessel Monitoring Plan (VMP) detailing at-sea catch handling protocols. An EM service provider would review 100 percent of the video footage. The provider would also produce an EM summary report identifying, counting, and generating weight estimates for all groundfish discards, which it would submit to the NMFS Greater Atlantic Fisheries Regional Office. These data would be used for catch accounting purposes on trips selected for ASM coverage. EM data would not be used for catch accounting in place of observer data on NEFOP trips. Following the EM service provider's review, the Northeast Fisheries Science Center would conduct a secondary review of the EM summary reports for a subset of EFP trips.

Under this EFP, participating vessels would be exempt from minimum fish size requirements (§ 648.83(a)) for Northeast multispecies, for sampling purposes only; and ocean pout, windowpane flounder, and Atlantic wolfish possession prohibitions (§ 648.86(l)), for sampling purposes only. Vessels would also be exempt from their sector's third-party monitoring program requirements (§ 648.87(b)(1)(v)(B)); all other standard sector reporting and monitoring requirements would still apply. All catch of allocated groundfish stocks would be deducted from the appropriate sector's allocation. Legal-sized regulated groundfish would be retained and landed as required by the Northeast Multispecies FMP. Undersized groundfish would be handled according to the VMP guidelines in view of cameras and returned to the sea as quickly as possible. All other species would be handled per normal commercial fishing operations. No legal-size regulated groundfish would be discarded, unless otherwise permitted through regulatory exemptions granted to the participating vessel's sector.

If approved, the applicant may request minor modifications to the EFP throughout the year. EFP modifications and extensions may be granted without further notice if they are deemed essential to facilitate completion of the proposed research and have minimal impacts that do not change the scope or impact of the initially approved EFP request. Any fishing activity conducted outside the scope of the exempted fishing activity would be prohibited.

(Authority: 16 U.S.C. 1801 et seq.)

Dated: April 3, 2020.
Hélène M.N. Scalliet,
Acting Director, Office of Sustainable Fisheries, National Marine Fisheries Service.

[FR Doc. 2020-07391 Filed 4-7-20; 8:45 am]

BILLING CODE 3510-22-P